NATIONAL SCIENCE FOUNDATION

National Science Board and Its Subdivisions; Sunshine Act Meeting

Federal Register Correction of Previous Announcement: Volume 68, Number 153, pp. 47369-47370 Federal Register, August 8, 2003, Sunshine Act 03-20353

Date and Time:

August 13, 2003: 8:30 a.m.-5 p.m.

Concurrent Sessions:

9 a.m.-9:40 a.m. Closed Session

9:40 a.m.-12 noon Open Session

12:30 p.m.-12:50 p.m. Open Session

12:50 p.m.-1:15 p.m. Closed Session

1:30 p.m.-3:30 p.m. Open Session

1:30 p.m.-3 p.m. Open Session

3:15 p.m.-3:30 p.m. Closed Session

3:30 p.m.-5:30 p.m. Open Session

3:30 p.m.-4:30 p.m. Open Session

August 14, 2003: 8 a.m.-3:30 p.m.

Concurrent Sessions:

8 a.m.-9:15 a.m. Closed Session

9:15 a.m.-10:30 a.m. Open Session

8:30 a.m.-10:30 a.m. Open Session

10:30 a.m.-12 noon Closed Session

12:30 p.m.-3:30 p.m. Open Session

Place: The National Science Foundation, 4201 Wilson Boulevard, Arlington, VA 22230, http://www.nsf.gov/nsb.

FOR FURTHER INFORMATION CONTACT: NSF Information Center (703) 292-5111.

Status: Part of this meeting will be closed to the public. Part of this meeting will be open to the public

Matters to be Considered:

Wednesday, August 13, 2003

Open

Committee on Strategy and Budget (9:40 a.m.-12 noon)

Room 1235

• Draft Strategic Plan

• Discussion: Report Required by Section 22 of the NSF Authorization Act

• Introduction

• S&E Workforce

• Expanding Institutional Participation

• S&E Research Infrastructure

• Size and Duration of Grants

• Overall Spending Recommendations

Executive Committee (12:30 p.m.-12:50 p.m.)

Room 1295

• Minutes

• Welcome New Executive Officer

Committee on Audit and Oversight (1:30 p.m.-3 p.m.)

Room 1295

• Minutes

• Audit Update—KPMG

• IG Act Anniversary

• GAO Review of NSF Business Analysis Plan Contract

• Cost-Sharing Policy Update

• CFO Update

• CIO Update

Subcommittee on S&E Indicators (1:30 p.m.-3:30 p.m.)

Room 1295

• Approval of Minutes

• S&E Indicators 2004 Overview Chapter

• Distribution of the Orange Book for Agency Review

• S&E Indicators 2004 Companion Piece

Ad Hoc Task Group on Long-Lived Data Collections (3:30 p.m.-5:30 p.m.)

Room 1240

• Issues Facing NSF on Long-Lived Data Collections: Reports from Directorates

• Future Activities

Task Force on S&E Workforce Policy (3:30 p.m.-4:30 p.m.)

Room 1235

• Approval of Minutes, May 21 and July 10

• Discussion of comments from Board members on the revised draft report (NSB-03-69)

• Report on Comments Received

• Publicity Plan and Schedule for the Final Report; Roll-out Event Options

• Cover and Title

Closed

Committee on Strategy & Budget (9 a.m.-9:40 a.m.)

Room 1235

• FY 2005 NSF Budget

• FY 2005 NSB Budget

Executive Committee (12:50 p.m.-1:15 p.m.)

Room 1295

• Director's Items

• Specific Personnel Matters

• Future Budgets

Audit & Oversight (3:15 p.m.-3:30 p.m.)

Room 1295

• Presentation of OIG FY 2005 Budget

• Briefing About Active Investigation

Thursday, August 14, 2003

Open

Committee on Programs and Plans (9:15 a.m.-10:30 a.m.)

Room 1235

• Minutes/Announcements

• Section 14 Authorization—Letter to Congress Regarding Delegation of Authority on Approval of MREFC Items

• High Risk Research

• Management of Large Computational Facilities

• Long-Lived Data Collections: Status Report

• Infrastructure Committee

Committee on Education and Human Resources (8:30 a.m.-10:30 a.m.) Room 1295

Minutes

• Minutes

• Comments from the Chair

• Discussion: NWP Task Force Report

• Reports from Working Groups (K-12, Undergraduate & Graduate)

• Report from Subcommittee on S&E Indicators

• Focus on the Future: BIO 2010 (continued)

• Report from the August 12th Workshop on Broadening Participation

• Report from the EHR AD

• New Business

Plenary Session of the Board (12:30 p.m.-3:30 p.m.)

Room 1235

• Oath of Office

• Minutes

• Closed Items, October 2003

• Chairman's Report

• Director's Report

• NSF Strategic Plan, 2003-2008

• NWP Report

• Multidisciplinary Data Initiative

• NSB Wireless Connectivity Update

• Committee Reports

Closed

Committee on Programs and Plans (8 a.m.-9:15 a.m.)

Room 1235

• Major Research Equipment & Facilities Construction

• Report on Meeting of the MREFC Panel

• New MREFC Project

Plenary Session of the Board (10:30 a.m.-12 Noon)

Room 1235

• Closed Minutes

• Member Proposal

• FY 2005 Budget

• Closed Session Committee Reports

Michael P. Crosby,
Executive Officer, NSB.

[FR Doc. 03-20596 Filed 8-8-03; 12:48 pm]

BILLING CODE 7555-01-M